DEPARTMENT OF COMMERCE

International Trade Administration

A-421-811

Purified Carboxymethylcellulose from the Netherlands: Extension of Time Limit for Preliminary Results of Antidumping Duty Administrative Review

AGENCY: Import Administration, International Trade Administration, Department of Commerce.

EFFECTIVE DATE: March 18, 2008.

FOR FURTHER INFORMATION CONTACT: Stephen Bailey or Angelica Mendoza, AD/CVD Operations, Office 7, Import Administration, International Trade Administration, U.S. Department of Commerce, 14th Street and Constitution Avenue, NW, Washington, DC 20230; telephone: (202) 482-0193 or (202) 482-3019, respectively.

SUPPLEMENTARY INFORMATION:

Background

On August 24, 2007, the Department of Commerce (“the Department”) published a notice of initiation of administrative review of the antidumping duty order on purified carboxymethylcellulose from the Netherlands, covering the period July 1, 2006, through June 30, 2007. See Initiation of Antidumping and Countervailing Duty Administrative Reviews and Request for Revocation in Part, 72 FR 48613 (August 24, 2007). The preliminary results for this review are currently due no later than April 1, 2008.

Statutory Time Limits

Section 751(a)(3)(A) of the Tariff Act of 1930, as amended (“the Act”), requires the Department to issue the preliminary results of an administrative review within 245 days after the last day of the anniversary month of an order for which a review is requested and the final results of review within 120 days after the date on which the preliminary results are published in the Federal Register. If the Department determines that it is not practicable to complete the review within the specified time period, section 751(a)(3)(A) of the Act allows the Department to extend these deadlines to a maximum of 365 days and 180 days, respectively.

Extension of Time Limits for Preliminary Results

The deadline for the preliminary results of this administrative review is currently April 1, 2008. The Department has determined that completion of the preliminary results within the statutory time period is not practicable. On January 16, 2008, the Department issued a section A-C supplemental questionnaire to respondent CP Kelco B.V. On February 15, 2008, the Department issued CP Kelco B.V. a supplemental cost questionnaire requesting additional information. CP Kelco B.V. submitted its sections A-C supplemental sales questionnaire response and its section D supplemental cost questionnaire response on February 14, 2008, and February 29, 2008, respectively. The Department requires additional time to review and analyze CP Kelco B.V.’s questionnaire responses, and to determine whether to issue additional supplemental sales and cost questionnaires to CP Kelco B.V.

Therefore, given the additional time needed to conduct a complete analysis for this administrative review, in accordance with section 751(a)(3)(A) of the Act, the Department is extending the time period for completion of the preliminary results to 365 days. Therefore, the preliminary results are now due no later than July 30, 2008. The final results continue to be due no later than 120 days after publication of the notice of the preliminary results.

This notice is published in accordance with sections 751(a)(3)(A) and 777(i)(1) of the Act.

Dated: March 11, 2008.
Stephen J. Claeys,
Deputy Assistant Secretary for Import Administration.

[FR Doc. E8-5417 Filed 3-17-08; 8:45 am]

BILLING CODE 3510-DS-S